DEPARTMENT OF TRANSPORTATION

Federal Highway Administration

Projects of National and Regional Significance Survey

AGENCY: Federal Highway Administration (FHWA), Department of Transportation (DOT)

ACTION: Notice.

SUMMARY: This notice announces that the Projects of National and Regional Significance (PNRS) survey required under section 1120 of the Moving Ahead for Progress in the 21st Century Act (MAP-21) will re-open on October 2, 2014. The original survey period ran from May 29, 2014, to June 30, 2014. However, in order to develop a more comprehensive catalogue of Projects of National and Regional Significance to assist DOT in planning and investment decisionmaking, DOT will re-open the survey for 45 calendar days, including Federal holidays through November 17, 2014. This will provide interested parties with an additional opportunity to submit projects for consideration and supplement existing submissions. The DOT may not consider responses submitted after November 17, 2014, so as to allow DOT to deliver the MAP-21 mandated report to Congress within a reasonable timeframe.

DATES: The PNRS survey will re-open from October 2, 2014 to November 17, 2014.

ADDRESSES: To respond to the survey go to: http://www.ops.fhwa.dot.gov/Freight/infrastructure/nat_reg_sig/index.htm. This Web site contains the survey instrument as well as details on the survey background, how the survey results will be used, and who is eligible to respond. Please note that entering the survey link does not require you to submit any information.

For those who have already responded to the original PNRS survey, the re-opening of the survey does not affect your previously submitted responses. However, DOT strongly encourages those who participated in the original survey to review their prior submissions to determine if those submissions should be augmented with additional information. You may choose to resubmit your survey response, add more supporting documentation, withdraw it, or leave it as previously submitted.

FOR FURTHER INFORMATION CONTACT: For questions about the PNRS survey, contact Tamiko Burnell, FHWA Office of Freight Management and Operations, (202) 366-1200, or via email at tamiko.burnell@dot.gov. For legal questions, contact Alla Shaw, FHWA Office of the Chief Counsel, (202) 366-1042 or via email at Alla.Shaw@dot.gov. Business hours for FHWA are from 8:00 a.m. to 4:30 p.m., E.T., Monday through Friday, except Federal holidays.

SUPPLEMENTARY INFORMATION:

Electronic Access

You may retrieve a copy of the notice through the Federal eRulemaking portal at http://www.regulations.gov. The Web site is available 24 hours each day, every day of the year. Electronic submission and retrieval help and guidelines are available under the help section of the Web site. An electronic copy of this document may also be downloaded from Office of the Federal Register's Web site at: http://www.archives.gov/federal_register and the Government Printing Office's Web site at: http://www.gpoaccess.gov.

Background

Section 1301 of the Safe, Accountable, Flexible, Efficient Transportation Equity Act: A Legacy for Users (SAFETEA-LU) (Pub. L. 109-59; 119 Stat. 1144) established a program to provide grants to States for PNRS to improve the safe, secure, and efficient movement of people and goods throughout the United States and to improve the health and welfare of the national economy.

Section 1120 of MAP-21 amended the PNRS program, including authorizing $500 million to carry out the program; however, no funds were appropriated for the program. Section 1120 of MAP-21 requires DOT to develop a report to Congress that contains a comprehensive list of each PNRS. The comprehensive list will enable the Secretary of Transportation to classify PNRS and to develop recommendations on financing for eligible project costs.

On May 29, 2014, FHWA, on behalf of DOT, launched the initial PNRS survey that closed on June 30, 2014. The survey was emailed to stakeholders in the categories identified as “eligible applicants” in MAP-21 (State departments of transportation (State DOT), tribal governments, and transit agencies). On June 3, 2014, FHWA hosted a Webinar to inform stakeholders on the background and purpose of the PNRS survey, program eligibility, and survey content.

Twenty-seven States and several transit authorities participated in the original survey, submitting a total of 143 projects. While over half of the 50 States participated, many regions of the country provided limited or no participation. Therefore, the overall results were less than comprehensive.

Purpose of This Notice

The purpose of this notice is fourfold: (1) To define the PNRS Survey and project eligibility; (2) to re-open the PNRS Survey for a period of 45 calendar days (including Federal holidays); (3) to establish how DOT will conduct outreach with stakeholders and potential respondents; and (4) to provide additional guidance on responding to survey questions.

PNRS Survey

Section 1120 of MAP-21 requires the DOT to develop a report to Congress that contains a comprehensive list of each project of national and regional significance that has been compiled through a survey of State DOTs. The comprehensive list will enable the Secretary to classify PNRS and to develop recommendations on financing for eligible project costs. For purposes of the survey, Section 1120 of MAP-21 defines PNRS as projects that:

• Significantly improve the national or regional performance of the Federal-aid highway system;

• Generate national economic benefits, including increased access to jobs and labor;

• Reduce long-term congestion and increase the speed, reliability, and accessibility of the movement of people or freight;

• Improve transportation safety, including reducing transportation accidents, serious injuries, and fatalities; and

• Can be supported by an acceptable degree of non-Federal financial commitments.

Using the PNRS project definitions above, the DOT is conducting a nationwide survey. Responses to the survey are voluntary and will be used by DOT to compile and submit the required PRNS Report to Congress. The final survey will list which entities participated in the survey.

Survey respondents are asked to provide a project description and information on how the project will: Improve national or regional highway system performance; generate economic benefits that include increased access to jobs; reduce long-term congestion including impacts in the State, region, and the U.S.; and improve safety including reducing accidents, injuries, and fatalities. The survey also requests project cost information, including the level of non-Federal funding sources used to construct, maintain, and operate the infrastructure facility. Respondents are strongly encouraged to provide any available documentation and additional information to support any prior responses.

The survey questions were cleared by the Office of Management and Budget (OMB Control No. 2125-0642). The survey can be viewed at http://www.ops.fhwa.dot.gov/Freight/infrastructure/nat_reg_sig/index.htm.

Eligible Applicants and Projects

Entities defined by Section 1120 of MAP-21 as eligible applicants for PNRS program funding are: A State DOT or group of State DOTs; a transit agency; a tribal government or consortium of tribal governments; or a multi-State or multi-jurisdictional group of State DOTs, transit agencies or tribal governments.

Entities that are not among those groups may respond directly to the survey or work with State DOTs, transit agencies, or tribal governments to submit responses to the survey. Such entities could include metropolitan planning organizations, seaport authorities, railroads, cities, counties, coalitions or joint power authorities of local governments, or economic development organizations which have responsibility for planning and/or implementing infrastructure projects.

Eligible projects are any surface transportation project or set of integrated surface transportation projects closely related in the function they perform, which are eligible to receive Federal assistance under 23 U.S.C. (Section 1301 of SAFETEA-LU). Additionally, a project's total cost must be at least $500 million or 50 percent of the amount of Federal highway assistance funds apportioned to the State in which the project is located. (Section 1120 of MAP-21). A list of each State's apportionments can be found at http://ops.fhwa.dot.gov/freight/infrastructure/nat_reg_sig/pnrs_survey/pnrs_aprt_13.

In addition to traditional highway and transit infrastructure projects, other examples of eligible PNRS projects may include public or private rail facilities providing benefits to highway users; surface transportation infrastructure modifications to facilitate intermodal interchange, transfer, and access into and out of ports; and other activities eligible under 23 U.S.C.

In general, projects eligible for the Transportation Infrastructure Finance and Innovation Act (TIFIA) program are eligible for the PNRS program. For more information on PNRS project eligibility respondents should refer to the PNRS final rule: http://www.regulations.gov/#!documentDetail;D=FHWA-2005-23393-0027. The TIFIA legislation can be found at 23 U.S.C. 601(a)(12): http://www.gpo.gov/fdsys/pkg/USCODE-2012-title23/html/USCODE-2012-title23-chap6-sec601.htm.

Outreach

The DOT will conduct extensive outreach to reach as many stakeholders as possible. The outreach by DOT staff is aimed at achieving completeness and consistency in survey responses.

An informational Webinar is scheduled for October 6, 2014. You may register for the Webinar at http://www.nhi.fhwa.dot.gov/resources/webconference/web_conf_learner_reg.aspx?webconfid=27944. The Webinar will be recorded and made available for future viewing online at http://ops.fhwa.dot.gov/freight/infrastructure/nat_reg_sig/index.htm.

Survey Guidelines

The PNRS Survey can be accessed and downloaded from the following Web site: http://www.ops.fhwa.dot.gov/Freight/infrastructure/nat_reg_sig/index.htm. Additional guidance has been included for survey respondents to help clarify what is being requested in survey questions 8-11 and 16. Listed below is the clarifying language included in the survey instructions.

#8. Briefly describe how the project will significantly improve performance of the Federal-aid highway system nationally, or regionally. (limited to 1500 characters) To the extent possible, please provide specific evidence or information about the ways this project (which may include non-highway projects) will positively change any performance-related features of the Federal-aid highway system—and the extent of that impact. Quantitative information is preferred. (Survey Question 8)

#9. Briefly describe how the project will generate national economic benefits that reasonably exceed the costs of the project, including increased access to jobs, labor, and other critical economic inputs. (limited to 1500 characters) To the extent possible, please provide specific citations or evidence linking the completion of this particular project (regardless of whether it is part of a larger facility or non-highway project) to positive changes in the national economy. Quantitative information is preferred. (Survey Question 9)

#10. Briefly describe how the project will reduce long-term congestion, including impacts in the State, region, and the United States, and increase speed, reliability, and accessibility of the movement of people or freight. (limited to 1500 characters) To the extent possible, please provide specific citations or evidence linking the completion of this particular project (regardless of whether it is part of a larger facility) to positive changes in current or expected congestion, such as reduced demand on the Federal-aid highway system due to improvement of modal alternatives including transit service and intercity passenger rail, or increased use of intelligent transportation systems, and the extent of that impact. Quantitative information is preferred. If congestion is not an issue this project will address, please indicate that, as well as any related level of service issues (e.g., reliability, accessibility) that may be affected positively by this project. (Survey Question 10)

#11. Briefly describe how the project will improve transportation safety, including reducing transportation accidents, and serious injuries and fatalities. (limited to 1500 characters) To the extent possible, please provide specific citations or evidence linking the completion of this particular project (regardless of whether it is part of a larger facility) to positive changes in safety for the region or nation. Quantitative information is preferred. (Survey Question 11)

#16. Please upload any information that would help to support your survey response. If you have multiple files please combine them into one zip file. All common file types (e.g., PDF, Word, Excel, PPT) are accepted. The maximum file size that can be uploaded is 16MB. If the supporting documents are not able to be loaded into survey tool, send directly to: PNRSSurvey@dot.gov. Documents sent by email must have the same project title as listed in question six on the survey. Any project-related video offered to satisfy the questions in this survey must have hard copy documentation to support the video. (Survey Question 16)

Planned Schedule

The following is the approximate schedule for re-opening of the PNRS Survey. Key milestones include:

1. October 2, 2014: Re-Open Survey;

2. October 2, 2014 to November 17, 2014, conduct outreach, technical assistance and follow-up;

3. October 6, 2014, Conduct Informational Webinar;

4. November 17, 2014: Close Survey

Authority: Section 1120 of Public Law 112-141.

Issued on: September 23, 2014.
Gregory G. Nadeau,
Acting Administrator, Federal Highway Administration.

[FR Doc. 2014-23420 Filed 10-1-14; 8:45 am]

BILLING CODE 4910-22-P